FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 18, 2012.

A. Federal Reserve Bank of Atlanta (Chapelle Davis, Assistant Vice President) 1000 Peachtree Street NE., Atlanta, Georgia 30309:

1. Bixby Bridge Financial Trust, and David D. Colburn, as Trustee, both of Northbrook, Illinois; to collectively acquire voting shares of PCNB Bancshares, Inc., and thereby indirectly acquire voting shares of Peoples Community Bank, both in Bremen, Georgia.

Board of Governors of the Federal Reserve System, April 30, 2012.
Jennifer J. Johnson,
Secretary of the Board.

[FR Doc. 2012-10675 Filed 5-2-12; 8:45 am]

BILLING CODE 6210-01-P